DEPARTMENT OF ENERGY

Federal Energy Regulatory Commission

[Project No. 184]

El Dorado Irrigation District; Notice of Meeting Cancellation

February 15, 2000.

The meeting scheduled for February 22, 2000, at 9:30 a.m. in Placerville, California announced by notice issued February 7, 2000, has been canceled. If the Commission's staff schedule to attend a public District's meeting in the future, appropriate notice will be issued.

David P. Boergers,
Secretary.

[FR Doc. 00-4092 Filed 2-18-00; 8:45 am]

BILLING CODE 6717-01-M